DEPARTMENT OF COMMERCE

Census Bureau

2007 Economic Census Covering the Construction Sector

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 17, 2006.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to Mary S. Bucci, U.S. Census Bureau, Manufacturing and Construction Division, (301) 763-4639, Room 2231, Building #4, Washington, DC 20233 (or via the Internet at mary.susan.bucci@census.gov).

SUPPLEMENTARY INFORMATION:

I. Abstract

The Census Bureau is the preeminent collector and provider of timely, relevant and quality data about the people and economy of the United States. Economic data are the Census Bureau's primary program commitment during nondecennial census years. The economic census, conducted under authority of Title 13, United States Code, is the primary source of facts about the structure and functioning of the Nation's economy and features unique industry and geographic detail. Economic census statistics serve as part of the framework for the national accounts and provide essential information for government, business and the general public. The 2007 Economic Census covering the Construction Sector (as defined by the North American Industry Classification System (NAICS) is a sample survey that will measure the economic activity of almost 700,000 establishments engaged in building construction and land subdivision and land development, heavy construction (except buildings), such as highways, power plants, pipelines; and construction activity by special trade contractors.

The information collected from businesses in this sector of the economic census will produce basic statistics by industry for number of establishments, value of construction work, payroll, employment, selected costs, depreciable assets, inventories, and capital expenditures. It also will yield a variety of subject statistics, including estimates of type of construction work done, kind of business activity, size of establishments and other industry-specific measures.

Primary strategies for reducing burden in Census Bureau economic data collections are to increase electronic reporting through broader use of computerized self-administered census questionnaires, on-line questionnaires and other electronic data collection methods.

II. Method of Collection

The construction industry sector of the economic census will select establishments for its mail canvass from a sample frame extracted from the Census Bureau's Business Register. To be eligible for selection, an establishment will be required to satisfy the following conditions: (i) It must be classified in the construction industry sector; (ii) it must be an active operating establishment of a multi-establishment firm, or it must be a single-establishment firm with payroll for at least one quarter of calendar year 2007; and (iii) it must be located in one of the 50 states or the District of Columbia. Mail selection procedures will distinguish the following groups of establishments:

A. Establishments of Multi-Establishment Firms

Selection procedures will assign all active construction establishments of multi-establishment firms to the mail component of the potential respondent universe.

We estimate that the mail canvass for the 2007 construction sector will include approximately 11,000 establishments of multi-establishment firms.

B. Single-Establishment Firms With Payroll

In the fall of 2006 the Census Bureau will conduct a limited classification refile operation (see Federal Register Notice dated October 26, 2005, 2007 Economic Census Classification Report for Construction, Manufacturing, and Mining Sectors). Within the construction sector, this refile will be directed to single-establishment firms in the Business Register with a NAICS industry code within the 236 subsector. This specific subsector was problematic in the 2002 Economic Census. The goal of the refile is to obtain accurate 6-digit NAICS industry codes for these single-establishment firms prior to the sampling operation. We are not aware of other systematic coding issues that need to be addressed via this refile.

The primary goal is to produce reliable State level estimates for each NAICS industry. We will use a stratified probability-proportionate-to-size (PPS) sample strategy for selecting the sample of single-establishment firms. The population of eligible single-establishment firms will be partitioned into State by NAICS strata. Within each stratum, each establishment will be assigned a probability of selection that is a function of its relative size within the stratum (payroll) and a stratum-specific reliability constraint. The larger establishments in a stratum may have probabilities equal to 1.00. Within each stratum, an independent sample will be selected. We will use a fixed sample size selection method for selecting the sample. This technique considerably improves the reliability of the resulting survey estimates by eliminating the variability associated with a variable sample size. The impact of the multi-establishment firms within each stratum will be taken into account in deriving the target sample size from the single-establishment firm population. We estimate that the mail canvass for the 2007 construction sector will include approximately 119,000 establishments of single-establishment firms.

III. Data

OMB Number: Not available.

Form Number: CC-23601, CC-23701, CC-23702, CC-23801, CC-23802, CC-23803, CC-23804.

Type of Review: Regular review.

Affected Public: Businesses or other for profit, non-profit institutions or organizations, and State or local governments.

Estimated Number of Respondents: 130,000.

Estimated Time per Response: 2.3 hours.

Estimated Total Annual Burden Hours: 299,000.

Estimated Total Annual Cost: $7,376,330.

Respondent's Obligation: Mandatory.

Legal Authority: Title 13, United States Code, Sections 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 11, 2006.
Madeleine Clayton,
Management Analyst, Office of the Chief Information Officer.

[FR Doc. E6-7429 Filed 5-15-06; 8:45 am]

BILLING CODE 3510-07-P